DEPARTMENT OF DEFENSE

Office of the Secretary of Defense

Uniformed Services University of the Health Sciences; Quarterly Meeting Notice

AGENCY: Uniformed Services University of the Health Sciences (USU).

ACTION: Quarterly meeting notice.

SUMMARY: Under the provisions of the Federal Advisory Committee Act of 1972 (5 U.S.C., Appendix, as amended) and the Sunshine in the Government Act of 1976 (5 U.S.C. 552b, as amended) announcement of the following meeting:

Name of Committee: Board of Regents of the Uniformed Services University of the Health Sciences.

Date of Meeting: November 6, 2007.

Location: Board of Regents Conference Room (D3001), Uniformed Services University of the Health Sciences, 4301 Jones Bridge Road, Bethesda, Maryland 20814.

Times: 8 a.m. to 1 p.m. (Open Session). 1 p.m. to 2 p.m. (Closed Session).

Proposed Agenda: The actions that will take place include the approval of minutes from the Board of Regents Meeting held August 7, 2007; acceptance of administrative reports; approval of faculty appointments and promotions; and the awarding of post-baccalaureate degrees as follows: Masters of Science in Nursing, and masters and doctoral degrees in the biomedical sciences and public health. The President, USU; Dean, USU School of Medicine; Acting Dean, USU Graduate School of Nursing; Armed Forces Radiobiology Research Institute; and the Director, U.S. Military Cancer Institute will also present reports. These actions are necessary for the University to remain an accredited medical school and to pursue its mission, which is to provide outstanding health care practitioners and scientists to the uniformed services.

SUPPLEMENTARY INFORMATION: Pursuant to Federal statute and regulations (5 U.S.C. 552b, as amended, and 41 CFR 102-3.140 through 102-3.165) and the availability of space, this meeting is open to the public. Interested persons may submit a written statement for consideration by the Board of Regents. Individuals persons may submit a written statement for consideration by the Board of Regents. Individuals submitting a written statement must submit their statement to the Designated Federal Officer at the address detailed above. If such statement is not received at least 10 calendar days prior to the meeting, it may not be provided to or considered by the Board of Regents until its next open meeting. The Designated Federal Officer will review all timely submissions with the Board of Regents Chair and ensure such submissions are provided to Board of Regents Members before the meeting. After reviewing the written comments, submitters may be invited to orally present their issues during the open portion of the November 2007 meeting or at a future meeting.

For further Information and Base Access Procedures Contact: Janet S. Taylor, Designated Federal Officer, 301.295.3066.

Dated: October 9, 2007.
L.M. Bynum,
Alternate OSD Federal Register Liaison Officer, DoD.

[FR Doc. 07-5064 Filed 10-12-07; 8:45 am]

BILLING CODE 5001-06-M